DEPARTMENT OF COMMERCE

[Docket No.: 110906558-2142-02]

Amendment to Privacy Act System of Records

AGENCY: Office of Inspector General (OIG), Department of Commerce.

ACTION: Notice; COMMERCE/DEPT-12, OIG Investigative Records.

SUMMARY: In order to update the system of records the Department of Commerce (DOC) publishes this notice to announce the effective date of an amended Privacy Act System of Records titled “COMMERCE/DEPT-12, OIG Investigative Records.” The notice of proposed amendment to this system of records was published in the Federal Register, 77 FR 2692-2697, on January 19, 2012.

DATES: The system of records becomes effective on March 14, 2012.

ADDRESSES: For a copy of the system of records please mail requests to: Counsel to the Inspector General, U.S. Department of Commerce, Room 7892, 1401 Constitution Avenue NW., Washington, DC 20230.

FOR FURTHER INFORMATION CONTACT: Counsel to the Inspector General, U.S. Department of Commerce, Room 7892, 1401 Constitution Avenue NW., Washington, DC 20230.

SUPPLEMENTARY INFORMATION: On January 19, 2012, the DOC published and requested comments on proposed amendments to the Privacy Act System of Records titled, at that time, “Investigative and Inspection Records—COMMERCE/DEPT-12.” Upon amendment, the system will be titled “COMMERCE/DEPT-12, OIG Investigative Records.” The amendment serves to generally update the system of records notice by, among other things, updating OIG's practices for electronically storing, retrieving, and safeguarding records in the system and updating OIG routine uses. No comments were received in response to the request for comments. By this notice, the DOC is adopting the proposed amendment to the system as final without changes effective March 14, 2012.

Dated: March 8, 2012.
Jonathan R. Cantor,
U.S. Department of Commerce, Chief Privacy Officer.

[FR Doc. 2012-6145 Filed 3-13-12; 8:45 am]

BILLING CODE 3510-55-P